DEPARTMENT OF ENERGY

Federal Energy Regulatory Commission

[Docket No. EL02-7-000]

Reliant Energy Power Generation, Inc., Reliant Energy Services, Inc., Mirant Americas Energy Marketing, LP, and Mirant California, Complainants v. California Independent System Operator Corporation, Respondent; Notice of Complaint

October 19, 2001.

Take notice that on October 18, 2001, Reliant Energy Power Generation, Inc., Reliant Energy Services, Inc., Mirant Americas Energy Marketing, LP and Mirant California, LLC (Complainants) submitted a complaint against the California Independent System Operator Corporation (CAISO) alleging that the CAISO is acting in a discriminatory and unduly preferential manner by granting advantages to its fellow state agency, the California Department of Water Resources (CDWR) (along with its marketing arm, the California Energy Resources Scheduler (CERS) that are not available to other participants in the CAISO market.

Complainants allege that the CAISO's discriminatory and unduly preferential actions violate the CAISO's Tariff, the Federal Power Act, and the Commission's own policies and orders. Complainants further allege that the CAISO's actions are causing injury to Complainants, to other market participants in California, and are threatening the viability of the CAISO market.

Copies of this filing were served upon the CAISO and other interested parties.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before October 29, 2001. Protests will be considered by the Commission in determining the appropriate action to be taken, but will not serve to make protestants parties to the proceeding. Any person wishing to become a party must file a motion to intervene. Answers to the complaint shall also be due on or before October 29, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-26850 Filed 10-24-01; 8:45 am]

BILLING CODE 6717-01-P